DEPARTMENT OF HEALTH AND HUMAN SERVICES

Public Health Service

National Toxicology Program (NTP); Notice of a Meeting of the NTP Board of Scientific Counselors

Pursuant to Pub. L. 92-463, notice is hereby given of a meeting of the National Toxicology Program (NTP) Board of Scientific Counselors on September 10-11, 2003, in the Rodbell Auditorium, Rall Building at the National Institute of Environmental Health Sciences, 111 T. W. Alexander Drive, Research Triangle Park, NC 27709.

The NTP Board of Scientific Counselors (“the Board”) is composed of scientists from the public and private sector and provides primary scientific oversight to the NTP.

Agenda

The meeting being held on September 10-11, 2003, begins each day at 8:30 a.m. and is open to the public from 8:30 a.m. to adjournment with attendance limited only by the space available. Persons needing special assistance should contact the Executive Secretary (contact information below) at least seven business days in advance of the meeting. A draft agenda with a tentative schedule is provided below. Primary agenda topics include: (1) A vision for the NTP that includes its concept and projection of new areas into which toxicology will develop in the next 5-10 years; (2) a presentation on the development of new, publicly accessible, electronic databases for NTP studies; (3) a demonstration of an interactive, web-based, 2-D-imaging system to evaluate the pathological outcomes of NTP studies; and (4) updates on the NTP testing program including the design of studies on radio-frequency radiation from cellular phone devices, collaborations with the National Institute of Occupational Safety and Health, studies on medicinal herbs and dietary supplements and the recommendations of the NTP Interagency Committee for Chemical Evaluation and Coordination (ICCEC) for substances nominated to the NTP for study. There will also be updates on the NTP Board of Scientific Counselors Technical Reports Peer Review Meeting held on May 22, 2003, the status of the 11th Edition of the Report on Carcinogens and the NTP Center for the Evaluation of Risks to Human Reproduction. Time is allotted during the meeting for the public to present comments to the Board and NTP staff on agenda topics.

The agenda and background materials on agenda topics, as available, will be posted on the NTP Web site (http://ntp-server.niehs.nih.gov, see What's New) or available upon request to the Executive Secretary (contact information below). Following the meeting, summary minutes will be prepared and available through the NTP web site and upon request to Central Data Management, NIEHS, P.O. Box 12233, MD E1-02, Research Triangle Park, NC 27709; telephone: 919-541-3419, fax: 919-541-3687, and e-mail: CDM@niehs.nih.gov.

ICCEC Recommendations for Substances Nominated for Future NTP Studies

Information about substances nominated to the NTP for toxicology and carcinogenesis studies and the ICCEC's recommendations were published in the Federal Register on July 16, 2003 (Vol. 68, No. 136, p. 42068-71). This notice is available on the Web (http://ntp-server.niehs.nih.gov/htdocs/Liason/ICCECFinal02JuneFR.html) along with supporting documents for each nomination (http://ntp-server.niehs.nih.gov/htdocs/liason/BkgrSum02June.html) or by contacting the NTP Executive Secretary (contact information below). This meeting provides an additional opportunity for the public to provide comment on these nominations and study recommendations to the Board and NTP staff. Comments submitted to the NTP in response to the July 2003 Federal Register notice are under consideration and do not need to be resubmitted or readdressed.

Public Comment Encouraged

Public input at this meeting is invited and time is set aside for the presentation of public comments on any agenda topic. At least 7 minutes will be allotted to each speaker, and if time permits, may be extended to 10 minutes. Each organization is allowed one time slot per agenda topic. Persons registering to make oral comments are asked to provide their name, affiliation, mailing address, phone, fax, e-mail, and sponsoring organization (if any). To facilitate planning for the meeting, persons interested in providing formal oral comments are asked to notify Dr. Barbara Shane, NTP Executive Secretary, NIEHS, P.O. Box 12233, MD A3-01, Research Triangle Park, NC 27709; telephone: 919-541-0530; and e-mail: shane@niehs.nih.gov by September 2, 2003. Persons may also submit written comments in lieu of making oral comments. Written comments should be sent to the Executive Secretary and must be received by September 2, 2003, to enable review by the Board and NTP staff prior to the meeting. Persons submitting written comments should include their name, affiliation, mailing address, phone, fax, e-mail, and sponsoring organization (if any) with the document.

Individuals will also be able to register to give oral public comments on-site at the meeting. However, if registering on-site and reading from written text, please bring 30 copies of the statement for distribution to the Board and NTP staff and to supplement the record.

Registration

The NTP Board of Scientific Counselors meeting is open to the public. Attendance at this meeting is limited only by the space available. Due to changes in security policies at the NIEHS, individuals who plan to attend are asked to pre-register with the Executive Secretary (contact information above). The names of those registered will be given to the NIEHS Security Office in order to gain access to the campus. Persons attending who have not pre-registered may be asked to provide pertinent information about the meeting, i.e., title or host of meeting before gaining access to the campus. All visitors (whether or not you are pre-registered) will need to be prepared to show 2 forms of identification (ID), i.e., driver's license and one other form of ID, such as company ID, government ID, or university ID.

NTP Board of Scientific Counselors

The Board is a technical advisory body comprised of scientists from the public and private sectors who provide primary scientific oversight to the overall program and its centers. Specifically, the Board advises the NTP on matters of scientific program content, both present and future, and conducts periodic review of the program for the purposes of determining and advising on the scientific merit of its activities and their overall scientific quality. Its members are selected from recognized authorities knowledgeable in fields, such as toxicology, pharmacology, pathology, biochemistry, epidemiology, risk assessment, carcinogenesis, mutagenesis, molecular biology, behavioral toxicology and neurotoxicology, immunotoxicology, reproductive toxicology or teratology, and biostatistics. The NTP strives for equitable geographic distribution and minority and female representation on the Board. Its members are invited to serve overlapping terms of up to four years and meetings are held once or twice annually for the Board and its two standing subcommittees (the Report on Carcinogens Subcommittee and the Technical Reports Review Subcommittee).

Dated: August 12, 2003.
Kenneth Olden,
Director, National Toxicology Program.

Preliminary Agenda: National Toxicology Program (NTP) Board of Scientific Counselors: September 10-11, 2003

National Institute of Environmental Health Sciences, Rodbell Auditorium, Rall Building, 111 T.W. Alexander Drive, Research Triangle Park, NC.

September 10, 2003

8:30 a.m.—Welcome and Opening Comments.

NTP Update.

A Vision for the NTP.

NTP Databases.

11:45 a.m.—Lunch.

1 p.m.—Imaging Technology for Pathological Evaluations.

Research Highlights

• Carbonyl Sulfide;

• Endocrine Disrupting Agents.

NTP Study Updates

• Design of Study on Radio-frequency Radiation Emissions;

• NTP-NIOSH Collaborations;

• Medicinal Herbs and Dietary Supplements.

5 p.m.—Adjourn

September 11, 2003

8:30 a.m.—Welcome and Introductions.

NTP Testing Program Study Nominations.

NTP-USGS Collaboration to Map Mercury Levels in Fish on a National Scale.

NTP Updates.

• Statistical Issues in Phototoxicology Studies;

• Technical Reports Peer Review Meeting on May 22, 2003;

• Report on Carcinogens;

• NTP Center for the Evaluation of Risks to Human Reproduction.

Other Business.

11:30 a.m.—Adjourn.

[FR Doc. 03-21697 Filed 8-25-03; 8:45 am]

BILLING CODE 4140-01-P